DEPARTMENT OF JUSTICE

Notice of Lodging of Proposed Consent Decree Under the Comprehensive Environmental Response, Compensation, and Liability Act

On March 14, 2023, the Department of Justice lodged a proposed Agreement and Consent Decree Concerning Distribution of Certain Assets Among Claimants (“Consent Decree”) with the United States District Court for the Eastern District of New York in a lawsuit entitled United States v. Gerald Cohen, Lawrence Aviation Industries, Inc. and 125 Acres More or Less, Civil Action No. CV-06-4818 (JMA)(AYS).

In this action, the United States obtained a judgement for recovery of response costs as provided under Section 107(a) of the Comprehensive Environmental Response, Compensation, and Liability Act (“CERCLA”), 42 U.S.C. 9607(a), from Lawrence Aviation Industries, Inc., and Gerald Cohen, related to their historical operations at Lawrence Aviation Industries, Inc., in Port Jefferson, New York (“the Site”). The proposed Consent Decree resolves the United States' remaining claim against Defendant 125 Acres of Land More or Less (“Defendant 125 Acres”), which comprises six parcels of land.

Under the proposed Consent Decree, Defendant 125 Acres will be sold and the United States and other persons that have filed claims in rem with respect to Defendant 125 Acres will receive proceeds from the sale as described in Appendix B to the proposed Consent Decree. Potential uses of the various parcels of land following the sale are described in Section VI of the Consent Decree. The sale will be effected by SCLB Holdings, LLC, a domestic limited liability company created by the Suffolk County Landbank Corporation (the “Landbank”). The sale will follow foreclosure on Suffolk County tax liens by SCLB Holdings, LLC. Neither the Landbank nor SCLB Holdings, LLC have claims against Defendant 125 Acres.

The publication of this notice opens a period for public comment on the proposed Consent Decree. Comments should be addressed to the Assistant Attorney General, Environment and Natural Resources Division, and should refer to United States v. Gerald Cohen, Lawrence Aviation Industries, Inc. and 125 Acres More or Less, Civil Action No. CV-06-4818 (JMA)(AYS), D.J. Ref. No. 90-11-2-08707. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. A paper copy of the Consent Decree will be provided upon written request and payment of reproduction costs. Please mail your request and payment to: Consent Decree Library, U.S. DOJ—ENRD, P.O. Box 7611, Washington, DC 20044-7611.

Please enclose a check or money order for $13.50 (25 cents per page reproduction cost) payable to the United States Treasury.

Henry S. Friedman,
Assistant Section Chief, Environmental Enforcement Section, Environment and Natural Resources Division.

[FR Doc. 2023-05634 Filed 3-17-23; 8:45 am]

BILLING CODE 4410-15-P